DEPARTMENT OF TRANSPORTATION

Federal Aviation Administration

[Summary Notice No. PE-2005-66]

Petitions for Exemption; Dispositions of Petitions Issued

AGENCY: Federal Aviation Administration (FAA), DOT.

ACTION: Notice of disposition of prior petition.

SUMMARY: Pursuant to FAA's rulemaking provisions governing the application, processing, and disposition of petitions for exemption, part 11 of Title 14, Code of Federal Regulations (14 CFR), this notice contains the disposition of certain petitions previously received. The purpose of this notice is to improve the public's awareness of, and participation in, this aspect of FAA's regulatory activities. Neither publication of this notice nor the inclusion or omission of information in the summary is intended to affect the legal status of any petition or its final disposition.

FOR FURTHER INFORMATION CONTACT: Tim Adams (202) 267-8033, Sandy Buchanan-Sumter (202) 267-7271, or John Linsenmeyer (202) 267-5174, Office of Rulemaking (ARM-1), Federal Aviation Administration, 800 Independence Avenue, SW., Washington, DC 20591.

This notice is published pursuant to 14 CFR 11.85 and 11.91.

Issued in Washington, DC, on December 28, 2005.
Anthony F. Fazio,
Director, Office of Rulemaking.

Disposition of Petitions

Docket No.: FAA-2005-21814.

Petitioner: Redline Air Service.

Sections of 14 CFR Affected: 14 CFR 43.3.

Description of Relief Sought/Disposition: To allow pilots employed by Redline Air Service to perform engine oil and engine oil filter changes on their part 135 airplanes. Denial of Exemption, 11/18/2005, Exemption No. 8665.

Docket No.: FAA-2001-8750.

Petitioner: Community College of the Air Force.

Sections of 14 CFR Affected: 14 CFR 147.31(c)(2)(iii).

Description of Relief Sought/Disposition: To allow U. S. Air Force aviation maintenance technicians who have completed military aviation maintenance training courses to be evaluated using the same criteria used for the civilian sector. Grant of Exemption, 11/05/2005, Exemption No. 8251A.

Docket No.: FAA-2002-11285.

Petitioner: Commemorative Air Force.

Sections of 14 CFR Affected: 14 CFR 91.315, 91.319(a), 119.5(g), and 119.25(b).

Description of Relief Sought/Disposition: To allow Commemorative Air Force to operate certain aircraft for the purpose of carrying passengers for compensation or hire on local flights for educational and historical purposes. Grant of Exemption, 11/30/2005, Exemption No. 6802E.

Docket No.: FAA-2001-11090.

Petitioner: Army Aviation Heritage Foundation.

Sections of 14 CFR Affected: 14 CFR 91.319, 119.5(g), and 119.25(b).

Description of Relief Sought/Disposition: To allow the Army Aviation Heritage Foundation to operate over other than congested areas with the minimum ceiling and visibility required for flight in class C and D airspace. Grant of Exemption, 11/30/2005, Exemption No. 7736D.

Docket No.: FAA-2003-16625.

Petitioner: Wings of Alaska.

Sections of 14 CFR Affected: 14 CFR 135.203(a)(1).

Description of Relief Sought/Disposition: To allow Wings of Alaska to operate under visual flight rules outside of controlled airspace over water at an altitude below 500 feet. Grant of Exemption, 11/29/2005, Exemption No. 8242A.

Docket No.: FAA-2005-22664.

Petitioner: Bell Helicopter.

Sections of 14 CFR Affected: 14 CFR 91.9(b)(1) and (2), and 91.203(b).

Description of Relief Sought/Disposition: To allow Bell Helicopter to operate unmanned aerial vehicles that do not carry and display the aircraft airworthiness, certification, and registration documents required in part 91. Grant of Exemption, 11/29/2005, Exemption No. 8667.

Docket No.: FAA-2000-8468.

Petitioner: Yankee Air Force, Inc.

Sections of 14 CFR Affected: 14 CFR 91.315, 119.5(g), and 119.21(a).

Description of Relief Sought/Disposition: To allow Yankee Air Force, Inc., to operate its North American B-25 and Boeing B-17 aircraft for the purpose of carrying passengers for compensation or hire on local flights for educational purposes. Grant of Exemption, 11/25/2005, Exemption No. 6631F.

Docket No.: FAA-2000-8528.

Petitioner: Popular Rotorcraft Association.

Sections of 14 CFR Affected: 14 CFR 91.319(a).

Description of Relief Sought/Disposition:

To allow Popular Rotorcraft Association and its member flight instructors to operate an experimental category gyroplane and an ultralight gyroplane for the purpose of conducting flight training for compensation or hire. Grant of Exemption, 11/25/2005, Exemption No. 5902K.

Docket No.: FAA-2005-22224.

Petitioner: Centurion Air Cargo, Inc.

Sections of 14 CFR Affected: 14 CFR 121.344.

Description of Relief Sought/Disposition: To allow Centurion Air Cargo, Inc., to operate a McDonnell Douglas DC-10 airplane with the required flight recorder parameters not fully operational. Denial of Exemption, 11/21/2005, Exemption No. 8666.

Docket No.: FAA-2004-19047.

Petitioner: Mr. James V. Ricks, Jr.

Sections of 14 CFR Affected: 14 CFR 135.251, 135.255, and 135.353, and appendices I and J.

Description of Relief Sought/Disposition: To allow Mr. James V. Ricks, Jr., to conduct local sightseeing flights at the Greenwood-Leflore Airport, Greenwood, Mississippi, for compensation or hire, without complying with certain anti-drug and alcohol misuse prevention requirements of part 135. Grant of Exemption, 11/18/2005, Exemption No. 8663.

Docket No.: FAA-2005-22460.

Petitioner: Pomona Valley Pilots Association.

Sections of 14 CFR Affected: 14 CFR 135.251, 135.255, and 135.353.

Description of Relief Sought/Disposition: To allow Pomona Valley Pilots Association to conduct local sightseeing flights at the Cable Airport, Upland, California, on January 7 and 8, 2006, for compensation or hire without complying with certain anti-drug and alcohol misuse prevention requirements of part 135. Grant of Exemption, 11/18/2005, Exemption No. 8664.

Docket No.: FAA-2005-22820.

Petitioner: American Airlines, Inc.

Sections of 14 CFR Affected: 14 CFR 121.619.

Description of Relief Sought/Disposition: To allow American Airlines, Inc., its certificated dispatchers, and its pilots in command to dispatch flights to domestic airports at which for at least 1-hour before and 1-hour after the estimated time of arrival at the destination airport the appropriate weather reports or forecasts, or any combination of them, indicate the ceiling may be reduced from at least 2,000 feet to 1,000 feet above the airport elevation and visibility may be reduced from at least 3 statute miles to 1 statute mile. Grant of Exemption, 11/15/2005, Exemption No. 8660.

Docket No.: FAA-2005-22733.

Petitioner: NetJets, Inc.

Sections of 14 CFR Affected: 14 CFR 91.203(a) and (b) and 47.49.

Description of Relief Sought/Disposition: To allow NetJets, Inc. to temporarily operate U.S.-registered aircraft in domestic operations without the registration or airworthiness certificates on board. Grant of Exemption, 11/15/2005, Exemption No. 8662.

Docket No.: FAA-2003-16038.

Petitioner: Southwest Airlines.

Sections of 14 CFR Affected: 14 CFR 121.623(a) and (d), 121.643, and 121.645(e).

Description of Relief Sought/Disposition: To allow Southwest Airlines to conduct supplemental operations within the 48 contiguous United States and the District of Columbia using the flight regulations for alternate airports as required by part 121.619 and the fuel reserve regulations as required by part 121.639. Grant of Exemption, 11/15/2005, Exemption No. 8238A.

Docket No.: FAA-2005-22740.

Petitioner: Mr. Dale W. Hemman.

Sections of 14 CFR Affected: 14 CFR 91.109(a) and (b)(3).

Description of Relief Sought/Disposition: To allow Mr. Dale W. Hemman to conduct certain flight training in certain Beechcraft airplanes that are equipped with a functioning throwover control wheel. Grant of Exemption, 11/15/2005, Exemption No. 8661.

Docket No.: FAA-2002-11578.

Petitioner: Northwest Seaplanes, Inc.

Sections of 14 CFR Affected: 14 CFR 135.203(a)(1).

Description of Relief Sought/Disposition: To allow Northwest Seaplanes, Inc., to conduct operations outside controlled airspace, over water, at an altitude below 500 feet above the surface but not less than 200 feet above the surface. Grant of Exemption, 11/15/2005, Exemption No. 6461F.

Docket No.: FAA-2005-22716.

Petitioner: Capital Cargo International Airlines, Inc.

Sections of 14 CFR Affected: 14 CFR 121.434(c)(1)(ii).

Description of Relief Sought/Disposition: To allow Capital Cargo International Airlines, Inc., to substitute a qualified and authorized check airman in place of a Federal Aviation Administration inspector to observe a qualifying pilot in command (PIC) while that PIC is performing certain duties when completing initial or upgrade training. Grant of Exemption, 11/15/2005, Exemption No. 8659.

Docket No.: FAA-2005-21606.

Petitioner: Kitty Hawk Aircargo, Inc.

Sections of 14 CFR Affected: 14 CFR 25.783(h), 25.807(g)(1), 25.810(a)(1), 25.813(b), 25.857(e) and 25.1447(c)(1).

Description of Relief Sought/Disposition: To allow carriage of two non-crewmembers (commonly referred to as supernumeraries) in an area just aft and outside of the flightdeck. Grant of Exemption, 11/4/2005, Exemption No. 8623.

[FR Doc. E5-8267 Filed 1-3-06; 8:45 am]

BILLING CODE 4910-13-P